DEPARTMENT OF THE INTERIOR

Bureau of Ocean Energy Management

[Docket No. BOEM 2025-0002]

Notice of Intent To Prepare an Environmental Impact Statement for the Proposed Vineyard Mid-Atlantic Project on the U.S. Outer Continental Shelf Offshore New York

AGENCY: Bureau of Ocean Energy Management, Interior.

ACTION: Notice of intent to prepare an environmental impact statement; request for comments.

SUMMARY: The Bureau of Ocean Energy Management (BOEM) announces its intent to prepare an environmental impact statement (EIS) (Unique Identification Number DOI-BOEM-OREP-2025-0001-EIS) for a construction and operations plan (COP) of an offshore wind energy facility submitted by Vineyard Mid-Atlantic, LLC (hereinafter referred to as Vineyard Mid-Atlantic or Proponent). This notice of intent (NOI) initiates the public scoping and comment process under the National Environmental Policy Act (NEPA) and under section 106 of the National Historic Preservation Act (NHPA). Vineyard Mid-Atlantic proposes to construct and operate the facility in Renewable Energy Lease Area OCS-A 0544 (Lease Area), which is approximately 43,056 acres and located approximately 24 statute miles (mi) offshore, south of Fire Island, New York, and approximately 60 statute mi offshore New Jersey. Vineyard Mid-Atlantic proposes to develop the entire Lease Area.

DATES: Your comments must be received by BOEM no later than March 3, 2025 for timely consideration. BOEM will hold three virtual public scoping meetings at the following dates and times (eastern time):

• Thursday, February 6, 5:00 p.m.—ending;

• Tuesday, February 11, 5:00 p.m.—ending; and

• Wednesday, February 19, 1:00 p.m.—ending.

Registration for the virtual public meetings may be completed here: https://www.boem.gov/renewable-energy/state-activities/vineyard-mid-atlantic-ocs-0544 or by calling (888) 788-0099 (toll free). The meetings are open to the public and free to attend.

ADDRESSES: Written comments can be submitted in any of the following ways:

• Delivered by U.S. mail or other delivery service, enclosed in an envelope labeled “Vineyard Mid-Atlantic EIS” and addressed to Lindy Nelson, NEPA Coordinator, Environmental Branch for Renewable Energy, Bureau of Ocean Energy Management, 45600 Woodland Road, VAM-OREP, Sterling, Virginia 20166; or

• Through the regulations.gov web portal: Navigate to www.regulations.gov and search for Docket No. BOEM-2025-0002. Select the document in the search results on which you want to comment, click on the “Comment” button, and follow the online instructions for submitting your comment. A commenter's checklist is available on the comment web page. Enter your information and comment, then click “Submit.”

For more information about submitting comments, please see the “Public Participation” heading under SUPPLEMENTARY INFORMATION.

Detailed information about the proposed Project, including the COP and instructions for making written comments, can be found on BOEM's website at: https://www.boem.gov/renewable-energy/state-activities/vineyard-mid-atlantic-ocs-0544.

FOR FURTHER INFORMATION CONTACT: Lindy Nelson, Office of Renewable Energy Programs, Bureau of Ocean Energy Management, 45600 Woodland Road, Sterling, Virginia 20166, telephone (703) 787-1460, or email Lindy.Nelson@boem.gov.

SUPPLEMENTARY INFORMATION:

Purpose of and Need for the Proposed Action

In Executive Order 14008, “Tackling the Climate Crisis at Home and Abroad,” issued on January 27, 2021, President Joseph R. Biden stated that the policy of his administration is “to organize and deploy the full capacity of its agencies to combat the climate crisis to implement a government-wide approach that reduces climate pollution in every sector of the economy; increases resilience to the impacts of climate change; protects public health; conserves our lands, waters, and biodiversity; delivers environmental justice; and spurs well-paying union jobs and economic growth, especially through innovation, commercialization, and deployment of clean energy technologies and infrastructure.”

Through a competitive leasing process conducted under 30 CFR 585.211, BOEM awarded Commercial Lease OCS-A 0544 to Vineyard Mid-Atlantic, covering an area offshore New York. BOEM approved an assignment of 100 percent interest in the lease to Vineyard Mid-Atlantic in April 2022. Vineyard Mid-Atlantic has the exclusive right to submit a COP for activities within the Lease Area. Vineyard Mid-Atlantic submitted a COP to BOEM proposing the construction, operation, maintenance, and conceptual decommissioning of an offshore wind energy facility consisting of up to two commercial-scale offshore wind energy projects in Lease Area OCS-A 0544, referred to collectively as the Vineyard Mid-Atlantic Offshore Wind Project (the Project).

Vineyard Mid-Atlantic's goal is to develop up to two commercial-scale offshore wind energy project(s) in the Lease Area to provide renewable energy to the State of New York. New York State's Climate Leadership and Community Protection Act mandates that at least 70% of the State's electricity come from renewable energy sources by 2030, calls for the development of 9 gigawatts (GW) of offshore wind energy by 2035, and mandates that greenhouse gas (GHG) emissions be reduced 85% below 1990 levels by 2050. Vineyard Mid-Atlantic's ability to deliver ~2 GW of power is needed to meet the State's clean energy goals. The Project will help further diversify New York State's electricity supply, increase energy reliability, and reduce GHG emissions. Vineyard Mid-Atlantic is actively seeking one or more offshore renewable energy certificate or power purchase agreement awards.

Vineyard Mid-Atlantic proposes to use up to 118 positions in the Lease Area to be occupied by up to 117 wind turbine generators (WTGs) and up to 2 electrical service platforms (ESPs). In accordance with the lease stipulations, the WTGs and ESP(s) would be oriented in west-northwest to east-southeast rows and north to south columns with 0.68 nautical mile (nm) (1.3 kilometer [km]) spacing between positions. Inter-array cables would transmit power from groups of WTGs to the ESP(s). If two ESPs are used, they may be connected with inter-link cables. Up to six high voltage alternating current (HVAC) cables, two high voltage direct current (HVDC) cable bundles, or a combination of up to four HVAC cables/HVDC cable bundles would be installed within an Offshore Export Cable Corridor (OECC) to transmit to shore the electricity collected at the ESP(s).

The OECC extends from the northern end of the Lease Area, continues west along the boundary of neighboring Lease Area OCS-A 0512, and then proceeds northwest across the Ambrose to Nantucket and Nantucket to Ambrose Traffic Lanes towards the southern shore of Long Island, New York. As the OECC approaches shore, it splits into three variations to connect to three potential landfall site(s) (of which, up to two would be used): the Rockaway Beach Landfall Site, the Atlantic Beach Landfall Site, and the Jones Beach Landfall Site. Vineyard Mid-Atlantic has also identified a “Western Landfall Sites OECC Variant” that may be used for routing offshore export cables to the Rockaway Beach and Atlantic Beach Landfall Sites.

Onshore export cables would connect up to two of the three potential landfall site(s) to two new onshore substations in Nassau County and/or Suffolk County, New York. If HVAC cables are used, an onshore reactive compensation station may be located along each onshore export cable route to manage the export cables' reactive power (unusable electricity), increase the transmission system's operational efficiency, reduce conduction losses, and minimize excess heating. Grid interconnection cables would connect the new onshore substations to up to two of the existing East Garden City Substation (Uniondale) Point of Interconnection (POI) in Uniondale, New York, the Ruland Road Substation POI in Melville, New York, or the proposed Eastern Queens Substation POI in Queens, New York.

Based on BOEM's authority under the Outer Continental Shelf Lands Act (OCSLA) to authorize renewable energy activities on the OCS; Executive Order 14008; the shared goals of the Federal agencies to deploy 30 GW of offshore wind in the United States by 2030, while protecting biodiversity and promoting ocean co-use; ¹ and in consideration of the Proponent's goals; the purpose of BOEM's action is to determine whether to approve, approve with conditions, or disapprove Vineyard Mid-Atlantic's COP. BOEM will make its determination after weighing the factors in subsection 8(p)(4) of OCSLA that are applicable to plan decisions and in consideration of the above goals. BOEM's action is needed to fulfill its duties under the lease, which require BOEM to make a decision on the lessee's plan to construct and operate a commercial-scale, offshore wind energy facility(ies) in the Lease Area, in accordance with the relevant regulations in 30 CFR part 585.

¹ FACT SHEET: Biden Administration Jumpstarts Offshore Wind Energy Projects to Create Jobs | Interior, Energy, Commerce, and Transportation Departments Announce New Leasing, Funding, and Development Goals to Accelerate and Deploy Offshore Wind Energy and Jobs | The White House https://www.whitehouse.gov/briefing-room/statements-releases/2021/03/29/fact-sheet-biden-administration-jumpstarts-offshore-wind-energy-projects-to-create-jobs/.

In addition, the National Oceanic and Atmospheric Administration's National Marine Fisheries Service (NMFS) anticipates one or more requests for authorization under the Marine Mammal Protection Act (MMPA) (16 U.S.C. 1361 et seq.) to take marine mammals incidental to construction activities related to the Project. NMFS' issuance of an MMPA incidental take authorization would be a major Federal action connected to BOEM's action (40 CFR 1501.3(b)). The purpose of the NMFS action—which is a direct outcome of Vineyard Mid-Atlantic's request for authorization to take marine mammals incidental to specified activities associated with the Project (e.g., pile driving)—is to evaluate Vineyard Mid-Atlantic's request pursuant to specific requirements of the MMPA and its implementing regulations administered by NMFS, considering impacts of the Vineyard Mid-Atlantic Offshore Wind Project's activities on relevant resources and, if appropriate, to issue the permit or authorization. NMFS needs to render a decision regarding the request for authorization due to NMFS's responsibilities under the MMPA (16 U.S.C. 1371(a)(5)(A)&(D)) and its implementing regulations. If NMFS makes the findings necessary to issue the requested authorization, NMFS intends to adopt, after independent review, BOEM's EIS to support that decision and fulfill its NEPA requirements.

The U.S. Army Corps of Engineers (USACE) New York District anticipates requests for authorizing a permit action to be undertaken through authority delegated to the district engineer by 33 CFR 325.8, under section 10 of the Rivers and Harbors Act of 1899 (RHA) (33 U.S.C. 403), and section 404 of the Clean Water Act (CWA) (33 U.S.C. 1344). In addition, it is anticipated that a section 408 permission will be required pursuant to section 14 of the RHA (33 U.S.C. 408), for any proposed alterations that have the potential to alter, occupy, or use any existing federally authorized civil works projects.

The USACE considers issuance of permits and permissions under these three delegated authorities a major Federal action connected to BOEM's action (40 CFR 1501.9(e)(1)). The need for the Project, as provided by the Proponent in Volume 1, Section 1.2 of the COP and reviewed by USACE for NEPA purposes, is to provide a commercially viable offshore wind energy project within the Lease Area to supply electricity in support of renewable and offshore wind energy goals established by the State of New York.

The basic Project purpose, as determined by USACE for section 404(b)(1) guidelines evaluation, is offshore wind energy generation. The overall project purpose for section 404(b)(1) guidelines evaluation, as determined by USACE, is the construction and operation of a commercial-scale, offshore wind energy project for renewable energy generation in Lease Area OCS-A 0544 offshore New York and transmission to the New York energy grid.

The purpose of USACE section 408 action as determined by Engineer Circular 1165-2-220 is to evaluate the Proponent's request and determine whether the proposed alterations are injurious to the public interest or impair the usefulness of the USACE project. The USACE section 408 permission is needed to ensure that congressionally authorized projects continue to provide their intended benefits to the public.

USACE intends to adopt BOEM's EIS to support its decision on any permits or permissions requested under section 10 of the RHA, section 404 of the CWA, and section 408 of the RHA. The USACE would adopt the EIS per 40 CFR 1506.3 if, after its independent review of the document, it concludes that the EIS appropriately addresses the USACE's comments and recommendations. Based on its participation as a cooperating agency and its consideration of BOEM's EIS, USACE intends to issue a record of decision (ROD) to formally document its decision on the Proposed Action.

The U.S. Environmental Protection Agency (EPA) Region 2 anticipates requests under section 402 of the CWA for an individual National Pollutants Discharge Elimination System (NPDES) permit to authorize discharges to surface waters from operation of an HVDC ESP. EPA intends to rely on the final EIS to support its decision on NPDES permit issuance. EPA will also rely on certain components of the Final EIS and ROD to support its Clean Air Act Outer Continental Shelf air permitting decision.

Proposed Action and Preliminary Alternatives

Vineyard Mid-Atlantic proposes to construct and operate an offshore wind energy facility consisting of up to two commercial-scale offshore wind energy projects within Lease Area OCS-A-0544, with up to 118 total foundation locations. Offshore components for the Vineyard Mid-Atlantic Project include up to 117 WTGs and up to 2 ESPs, foundations and associated scour protection for WTGs and ESPs, associated inter-array cables, and up to two OECCs for HVAC and/or HVDC submarine export cables and cable protection. Two to six offshore export cables are proposed to transmit electricity from the Lease Areas to shore.

Vineyard Mid-Atlantic is proposing monopile foundations to support the WTGs, and monopile or piled jacket foundations to support the ESPs. The WTGs, ESPs, foundations, and inter-array cables would be located entirely within the Lease Area. Additional details on the OECC and onshore facilities are described under the Purpose and Need section of this NOI.

BOEM will evaluate reasonable alternatives to the Proposed Action that are identified during the scoping period and included in the draft EIS, including a no action alternative. Under the no action alternative, BOEM would disapprove Vineyard Mid-Atlantic's COP, and the proposed wind energy facility described in the COP would not be built within the Lease Area.

In addition to the Proposed Action and the no action alternative (i.e., disapproval of the COP), potential alternatives that the draft EIS could analyze include the following preliminary alternatives:

• Visual Minimization Alternative: BOEM intends to examine design parameters to reduce visual impacts.

• Habitat and Fisheries Impact Minimization Alternatives: BOEM intends to examine alternatives that would reduce impacts to habitat and fisheries.

All preliminary alternatives would consider avoidance and minimization of impacts to Waters of the U.S. and federal projects such as federal navigation channels and flood protection projects. After completing the EIS and associated consultations, BOEM will decide through a record of decision (ROD) whether to approve, approve with conditions, or disapprove the Vineyard Mid-Atlantic Offshore Wind Project COP. If BOEM approves the COP, Vineyard Mid-Atlantic must comply with all conditions of its approval.

Summary of Potential Impacts

The draft EIS will identify and describe the potential effects of the Proposed Action and the alternatives on the human environment. Those potential effects must be reasonably foreseeable and must have a reasonably close causal relationship to the Proposed Action and the alternatives. Such effects include those that occur at the same time and place as the Proposed Action and alternatives and those that are later in time or occur in a different place. Potential effects include, but are not limited to, impacts (whether beneficial or adverse) on air quality; water quality; bats; benthic habitat; essential fish habitat; invertebrates; finfish; birds; marine mammals; terrestrial and coastal habitats and fauna; sea turtles; wetlands and other Waters of the United States; commercial fisheries and for-hire recreational fishing; cultural resources; Tribal issues of concern; demographics; employment; economics; environmental justice; land use and coastal infrastructure; navigation and vessel traffic; other marine uses; recreation and tourism; and visual resources. These potential effects will be analyzed in the draft and final EIS.

Based on a preliminary evaluation of the resources listed in the preceding paragraph, BOEM expects potential impacts on sea turtles and marine mammals from underwater noise caused by construction and from collision risks with Project-related vessel traffic. Structures installed by the Project could permanently change benthic and fish habitats (e.g., creation of artificial reefs). Commercial fisheries and for-hire recreational fishing could be impacted. Project structures above the water could affect the visual character defining historic properties and recreational and tourism areas. Project structures also would pose an allision and height hazard to vessels passing close by, and vessels would, in turn, pose a hazard to the structures. Additionally, the Project might cause conflicts with military activities, air traffic, land-based radar services, cables and pipelines, and scientific surveys. The EIS will analyze all significant impacts, as well as potential measures that would avoid, minimize, or mitigate identified non-beneficial impacts.

Beneficial impacts are also expected by facilitating achievement of State renewable energy goals, increasing job opportunities, improving air quality, and addressing climate change.

Anticipated Permits and Authorizations

In addition to the requested COP approval, various other Federal, State, and local authorizations will be required for the Project. Applicable Federal laws include the Endangered Species Act, Magnuson‐Stevens Fishery Conservation and Management Act, MMPA, RHA, CWA, Clean Air Act section 328, and the Coastal Zone Management Act. BOEM will also conduct government-to-government Tribal consultations. For a detailed listing of regulatory requirements applicable to the Project, please see the COP, volume I, available at https://www.boem.gov/renewable-energy/state-activities/vineyard-mid-atlantic-ocs-0544.

BOEM has chosen to use the NEPA process to fulfill its obligations under NHPA. While BOEM's obligations under NHPA and NEPA are independent, regulations implementing section 106 of NHPA at 36 CFR 800.8(c) allow the NEPA process and documentation to substitute for various aspects of the NHPA review. This process is intended to improve efficiency, promote transparency and accountability, and support a broadened discussion of potential effects that the Project could have on the human environment. During preparation of the EIS, BOEM will ensure that the NEPA process will fully meet all NHPA obligations.

Schedule for the Decision-Making Process

After the draft EIS is completed, BOEM will publish a notice of availability (NOA) and request public comments on the draft EIS. BOEM currently expects to issue the NOA for the draft EIS in June 2026. After the public comment period ends, BOEM will review and respond to comments received and will develop the final EIS. BOEM currently expects to make the final EIS available to the public in April 2027. As permitted under 40 CFR 1501.10(b)(2), BOEM extended the schedule for completion of the EIS beyond the 2-year deadline in consultation with the Proponent. A ROD will be completed no sooner than 30 days after the final EIS is released, in accordance with 40 CFR 1506.11.

This Project is a “covered project” under section 41 of the Fixing America's Surface Transportation Act (FAST-41). FAST-41 provides increased transparency and predictability by requiring Federal agencies to publish comprehensive permitting timetables for all covered projects. FAST-41 also provides procedures for modifying permitting timetables to address the unpredictability inherent in the environmental review and permitting process for significant infrastructure projects. To view the FAST-41 Permitting Dashboard for the Project, visit: https://www.boem.gov/renewable-energy/state-activities/vineyard-mid-atlantic-ocs-0544.

Scoping Process

This NOI commences the public scoping process to identify issues and potential alternatives for consideration in the Vineyard Mid-Atlantic EIS. BOEM will hold three virtual public scoping meetings at the times and dates described above under the DATES heading. Throughout the scoping process, Federal agencies, Tribes, State and local governments, and the public will have the opportunity to help BOEM identify significant resources and issues, impact-producing factors, reasonable alternatives (e.g., size, geographic, seasonal, or other restrictions on construction and siting of facilities and activities), and potential mitigation measures to be analyzed in the EIS, as well as to provide additional information.

As noted above, BOEM will use the NEPA process to comply with NHPA. BOEM will consider all written requests from individuals and organizations to participate as consulting parties under NHPA and, as discussed below, will determine who among those parties will be a consulting party in accordance with NHPA regulations.

NEPA Cooperating Agencies

BOEM has invited Federal agencies and State and local governments to consider becoming cooperating agencies and has invited federally recognized Tribes to become cooperating Tribal governments in the preparation of this EIS. The Council on Environmental Quality (CEQ) NEPA regulations specify that cooperating agencies and governments are those with “jurisdiction by law or special expertise.” Potential cooperating agencies should consider their authority and capacity to assume the responsibilities of a cooperating agency and should be aware that an agency's role in the environmental analysis neither enlarges nor diminishes the final decision-making authority of any other agency involved in the NEPA process.

BOEM has provided potential cooperating agencies with a written summary of expectations for cooperating agencies, including schedules, milestones, responsibilities, scope and detail of cooperating agencies' expected contributions, and availability of pre-decisional information. BOEM anticipates this summary will form the basis for a memorandum of agreement between BOEM and any non-Department of the Interior cooperating agency. Agencies should also consider the factors for determining cooperating agency status in the CEQ memorandum entitled “Cooperating Agencies in Implementing the Procedural Requirements of the National Environmental Policy Act,” dated January 30, 2002. This document is available on the internet at: https://www.energy.gov/nepa/articles/cooperating-agencies-implementing-procedural-requirements-national-environmental. BOEM, as the lead agency, does not provide financial assistance to cooperating agencies.

Governmental entities that are not cooperating agencies will have opportunities to provide information and comments to BOEM during the public input stages of the NEPA process.

NHPA Consulting Parties

Individuals and organizations with a demonstrated interest in the Project can request to participate as NHPA consulting parties under 36 CFR 800.2(c)(5) based on their legal or economic stake in historic properties affected by the Project.

Before issuing this NOI, BOEM compiled a list of potential consulting parties and invited them to become consulting parties. To become a consulting party, those invited must respond in writing by the requested response date.

Interested individuals and organizations that did not receive a written invitation can request to be consulting parties by writing to the staff NHPA contact at ICF International, Inc., the third-party EIS contractor supporting BOEM in its administration of this review. ICF's NHPA contact for this review is Jean Stoll at VineyardMidAtlantic-Section106@icf.com. BOEM will determine which interested parties should be consulting parties.

Public Participation

Federal agencies, Tribes, State and local governments, interested parties, and the public are requested to comment on the scope of this EIS, significant issues that should be addressed, and alternatives that should be considered.

Information on Submitting Comments

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment. Information that is not labeled as privileged or confidential may be regarded by BOEM as suitable for public release.

BOEM will not treat as confidential any aggregate summaries of such information or comments not containing such privileged or confidential information.

b. Personally Identifiable Information (PII)

BOEM discourages anonymous comments. Please include your name and address as part of your comment. You should be aware that your entire comment, including your name, address, and any other personally identifiable information included in your comment, may be made publicly available. All comments from individuals, businesses, and organizations will be available for public viewing on regulations.gov.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your submission is subject to FOIA. If your submission is requested under FOIA, your information will only be withheld if a determination is made that one of FOIA's exemptions to disclosure applies. Such a determination will be made in accordance with the Department of the Interior's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of the NHPA as confidential.

Request for Identification of Potential Alternatives, Information, and Analyses Relevant to the Proposed Action

BOEM requests data, comments, views, information, analysis, alternatives, or suggestions relevant to the proposed action from: the public; affected Federal, Tribal, State, and local governments, agencies, and offices; the scientific community; industry; or any other interested party. Specifically, BOEM requests information on the following topics:

1. Potential effects on biological resources, including bats, birds, coastal fauna, finfish, invertebrates, essential fish habitat, marine mammals, and sea turtles.

2. Potential effects on physical resources and conditions including air quality, water quality, wetlands, and other waters of the United States.

3. Potential effects on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the proposed action that BOEM should consider, including additional or alternative avoidance, minimization, and mitigation measures.

5. As part of its compliance with NHPA section 106 and its implementing regulations (36 CFR part 800), BOEM seeks comment and input from the public and consulting parties regarding the identification of historic properties within the proposed action's area of potential effects, the potential effects on those historic properties from the activities proposed in the COP, and any information that supports identification of historic properties under NHPA. BOEM also solicits proposed measures to avoid, minimize, or mitigate any adverse effects on historic properties. BOEM will present available information regarding known historic properties during the public scoping period at https://www.boem.gov/renewable-energy/state-activities/vineyard-mid-atlantic-ocs-0544. BOEM's effects analysis for historic properties will be available for public and consulting party comment with the draft EIS.

6. Information on other current or planned activities in, or in the vicinity of, the Project, their possible impacts on the Project, and the Project's possible impacts on those activities.

7. Other information relevant to the proposed action and its impacts on the human environment.

To promote informed decision-making, comments should be as specific as possible and should provide as much detail as necessary to meaningfully and fully inform BOEM of the commenter's position. Comments should explain why the issues raised are important to the consideration of potential environmental impacts and possible alternatives to the proposed action, as well as economic, employment, and other impacts affecting the quality of the human environment.

The draft EIS will include a summary of all alternatives, information, and analyses submitted during the scoping process for consideration by BOEM and the cooperating agencies.

Authority: 42 U.S.C. 4321 et seq., and 40 CFR 1501.9.

Walter D. Cruickshank,
Deputy Director, Bureau of Ocean Energy Management.

[FR Doc. 2025-00733 Filed 1-14-25; 8:45 am]

BILLING CODE 4340-98-P